DEPARTMENT OF LABOR

Employment and Training Administration

[TA-W-61,705; TA-W-61,705A]

RF Monolithics, Inc., Dallas, TX; Including an Employee of RF Monolithics, Inc., Dallas, TX Located in Gillsville, GA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 13, 2007, applicable to workers of RF Monolithics, Inc., Dallas, Texas. The notice was published in the Federal Register on July 26, 2007 (72 FR 41088).

At the request of the State agency, the Department reviewed the certification for workers of the subject firm. New information shows that a worker separation has occurred involving an employee of the Dallas, Texas facility of RF Monolithics, Inc. located in Gillsville, Georgia. Ms. Elizabeth Johnson provided sales support services for the production of electronic low-power components that is produced at the Dallas, Texas location of the subject firm.

Based on these findings, the Department is amending this certification to include an employee of the Dallas, Texas facility of RF Monolithics, Inc. located in Gillsville, Georgia. The intent of the Department's certification is to include all workers of RF Monolithics, Inc., Dallas, Texas who were adversely affected by increased company imports.

The amended notice applicable to TA-W-61,705 is hereby issued as follows:

All workers of RF Monolithics, Inc., Dallas, Texas (TA-W-61,705), including an employee in support of RF Monolithics, Inc., Dallas, Texas located in Gillsville, Georgia (TA-W-61,705A), who became totally or partially separated from employment on or after June 18, 2006, through July 13, 2009, are eligible to apply for adjustment assistance under Section 223 of the Trade Act of 1974, and are also eligible to apply for alternative trade adjustment assistance under Section 246 of the Trade Act of 1974.

Signed at Washington, DC this 29th day of October 2007.
Linda G. Poole,
Certifying Officer, Division of Trade Adjustment Assistance.

[FR Doc. E7-21745 Filed 11-5-07; 8:45 am]

BILLING CODE 4510-FN-P